DEPARTMENT OF COMMERCE

National Oceanic and Atmospheric Administration

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Marine Planning and Climate Change Committee (MPCCC), Social Science Plan Committee (SSPC) and Protected Species Advisory Committee (PSAC) to review relevant sections of the draft 2015 annual reports for the Pacific Pelagic Fishery Ecosystem Plan (Pelagic FEP), American Samoa Archipelago FEP, Hawaii FEP, Mariana Archipelago FEP and Pacific Remote Island Areas (PRIA) FEP and related purposes. The committees will also receive updates on matters related to fishery management and may make recommendations on these topics.

DATES: The MPCCC meeting will be held between 8:30 a.m. and 5 p.m. on March 30-31, 2016. The SSPC will be held between 1 p.m. and 5 p.m. on April 1, 2016. The PSAC meeting will be held between 9 a.m. and 5 p.m. on April 7 and 8, 2016. For specific times and agendas, see SUPPLEMENTARY INFORMATION.

ADDRESSES: The MPCCC, SSPC and PSAC meetings will be held at the Council office, 1164 Bishop Street, Suite 1400, Honolulu, HI 96813; phone: (808) 522-8220.

FOR FURTHER INFORMATION CONTACT: Kitty M. Simonds, Executive Director, phone: (808) 522-8220.

SUPPLEMENTARY INFORMATION: Public comment periods will be provided throughout the agendas. The order in which agenda items are addressed may change. The meetings will run as late as necessary to complete scheduled business.

Agenda for the MPCCC Meeting

8:30 a.m.-5 p.m., Wednesday, March 30, 2016

1. Welcome and Introductions

2. Approval of Agenda

3. Overview of Fishery Ecosystem Plans

A. Pelagic FEP Fisheries

B. Hawai`i Archipelago and Pacific Remote Island Areas FEP Fisheries

C. Mariana Archipelago FEP Fisheries

D. American Samoa FEP Fisheries

E. Ecosystem Components

i. Protected Species

ii. Fishing Communities

iii. Oceanography and Climate Change

iv. Essential Fish Habitat

v. Marine Planning

4. Overview of 2015 Annual Report Components

A. Marine Planning Indicators

i. Pelagic

ii. Archipelagic

B. Climate Change Indicators

i. Pelagic

ii. Archipelagic

5. Public Comment

6. Discussion

7. Recommendations

8:30 a.m.-5 p.m., Thursday, March 31, 2016

8. Pacific Islands Regional Planning Body Update

9. Marine Planning and Climate Change Community Workshops

A. Overview

B. Breakout Planning Sessions

i. American Samoa

ii. Hawaii

iii. Guam and Commonwealth of the Northern Mariana Islands (CNMI)

A. Planning Session Reports

i. American Samoa

ii. Hawaii

iii. Guam and CNMI

10. Public Comment

11. Discussion

12. Recommendations

13. Old Business

A. MPCC Action Plan Update

B. Other

14. New Business

A. Pacific Islands Regional Action Plan for the NOAA Climate Science Strategy

B. NOAA Marine Fisheries Advisory Committee's Proposed Work Plan Resilience Working Group

C. 2016 Officer Nominations

D. Other

15. Public Comment

16. Discussion

17. Recommendations

Agenda for the SSPC Meeting

1 p.m.-5 p.m., Friday, April 1, 2016

1. Welcome and Introductions

2. Approval of Agenda

3. Status of the Previous Committee Meeting Recommendations

4. Council Human Dimensions Activities Update

A. 2015 Accomplishments

1. Human Dimensions Elements in Stock Assessment and Fishery Evaluation (SAFE) Reports

2. Guam Fishing Conflict Study

3. Annual Catch Limit Social, Economic, Ecological, Management Uncertainty Process

B. 2016 Activities

1. Fishing Community Profiles

2. SAFE Report Data Gaps

3. Linking up Human Communities Research Priorities, SAFE Reports, Fishing Community Profiles

C. Current and Upcoming Research

5. Fishery Ecosystem Plans Annual/SAFE Report Review

A. Overview

B. Pelagic SAFE Report

C. Archipelagic SAFE Report

D. Chapter 3—Data Integration

6. Public Comment

7. Committee Discussion and Recommendations

8. Other Business and Next Meeting

Agenda for the PSAC Meeting

9 a.m.-5 p.m., Thursday, April 7, 2016

1. Welcome and Introductions

2. Approval of Agenda

3. Status of the Second Protected Species Advisory Committee Meeting Recommendations

4. Fisheries and Protected Species Management Updates

A. Recent Council Actions

i. Pelagic fisheries actions

ii. Insular fisheries actions

iii. Discussion

B. Council Protected Species Activities Update

C. Endangered Species Act (ESA) Updates

i. Section 7 ESA consultations for pelagic and insular fisheries

ii. ESA listing and other related actions

iii. Discussion

5. FEP Annual Report Review Part I

A. Overview of the Report Structure and Process

B. Overview of the Ecosystem Module

i. Climate, ecosystems and biological section

ii. Habitat section

iii. Human dimensions section

iv. Marine planning section

C. Longline Fishery Sections

i. Summary of relevant fishery data

ii. Protected species section

iii. Data analysis and related meetings

a. Leatherback interactions in the Hawaii deep-set longline fishery

b. Seabird interactions in the Hawaii deep-set longline fishery

c. Rare events bycatch workshop plan

iv. Discussion and synthesis

6. Public Comment

9 a.m.-5 p.m., Friday, April 8, 2016

7. FEP Annual Report Review Part II

A. Pelagic Non-longline Fishery Sections

i. Summary of relevant fishery data

ii. Protected species section

iii. Discussion and synthesis

B. Insular Fishery Sections

i. Summary of relevant fishery data

ii. Protected species section

iii. Discussion and synthesis

C. Discussion on Monitoring Protected Species Interactions under the FEP Annual Reports

D. Discussion on Data Gaps and Research Needs

8. Council's Research Priorities

A. Five-year Research Priorities

B. Cooperative Research Priorities

C. Discussion

8. Public Comment

9. Committee Discussion and Recommendations

10. Other Business & Next Meeting

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: March 9, 2016.
Tracey L. Thompson,
Acting Deputy Director, Office of Sustainable Fisheries, National Marine Fisheries Service.

[FR Doc. 2016-05637 Filed 3-11-16; 8:45 am]

BILLING CODE 3510-22-P